DEPARTMENT OF COMMERCE

Bureau of Industry and Security

15 CFR Part 744

[Docket No. 220531-0127]

RIN 0694-AI90

Additions of Entities to the Entity List

AGENCY: Bureau of Industry and Security, Department of Commerce.

ACTION: Final rule.

SUMMARY: In response to the Russian Federation's (Russia's) further invasion of Ukraine on February 24, 2022, the Department of Commerce is amending the Export Administration Regulations (EAR) by adding 71 entities under 71 entries to the Entity List. These entities have been determined by the U.S. Government to be acting contrary to the national security interests or foreign policy of the United States and will be listed on the Entity List under the destinations of Belarus and Russia.

DATES: This rule is effective June 2, 2022.

FOR FURTHER INFORMATION CONTACT: Chair, End-User Review Committee, Office of the Assistant Secretary for Export Administration, Bureau of Industry and Security, Department of Commerce, Phone: (202) 482-5991, Email: ERC@bis.doc.gov.

SUPPLEMENTARY INFORMATION:

Background

The Entity List (supplement No. 4 to part 744 of the Export Administration Regulations (EAR)) identifies entities for which there is reasonable cause to believe, based on specific and articulable facts, that the entities have been involved, are involved, or pose a significant risk of being or becoming involved in activities contrary to the national security or foreign policy interests of the United States. The EAR (15 CFR parts 730-774) imposes additional license requirements on, and limits the availability of, most license exceptions for exports, reexports, and transfers (in-country) to listed entities. The license review policy for each listed entity is identified in the “License Review Policy” column on the Entity List, and the impact on the availability of license exceptions is described in the relevant Federal Register document that added the entity to the Entity List. The Bureau of Industry and Security (BIS) places entities on the Entity List pursuant to part 744 (Control Policy: End-User and End-Use Based) and part 746 (Embargoes and Other Special Controls) of the EAR. Paragraphs (b)(1) through (5) of § 744.11 include an illustrative list of activities that could be contrary to the national security or foreign policy interests of the United States. Sixty-six entities are being added in this rule on the basis of §§ 744.11(b) and 744.21 and will receive a footnote 3 designation because the End-User Review Committee (ERC) has determined they are Russian or Belarusian `military end users' in accordance with § 744.21. A footnote 3 designation subjects these entities to the Russia/Belarus foreign “direct product” (FDP) rule, detailed in § 734.9(g). The other five entities are being added solely on the basis of § 744.11(b).

The ERC, composed of representatives of the Departments of Commerce (Chair), State, Defense, Energy and, where appropriate, the Treasury, makes all decisions regarding additions to, removals from, or other modifications to the Entity List. The ERC makes all decisions to add an entry to the Entity List by majority vote and makes all decisions to remove or modify an entry by unanimous vote.

The ERC determined to add the following entity to the Entity List on the basis of §§ 744.11(b) and 744.21 under the destination of Belarus: “Joint Stock Company Eleron”. In addition, the ERC determined to add the following 65 entities to the Entity List on the basis of §§ 744.11(b) and 744.21 under the destination of Russia: “AO Rubin,” “Branch of AO Company Sukhoi Yuri Gagarin Komsomolsk on Amur Aircraft Plant,” “Branch of PAO Il—Aviastar,” “Branch of RSK MiG Nizhny Novgorod Aircraft Construction Plant Sokol,” “Chkalov Novosibirsk Aviation Plant,” “Concern Radio-Electronic Technologies, Joint Stock Company Aeropribor Voskhod,” “Concern Radio-Electronic Technologies, Joint Stock Company All Russian Scientific Research Institute Gradient,” “Concern Radio-Electronic Technologies, Joint Stock Company Almatyevsk Radiopribor Plant,” “Concern Radio-Electronic Technologies, Joint Stock Company Experimental Design Bureau Elektroavtomatika in the name of P.A. Efimov,” “Concern Radio-Electronic Technologies, Joint Stock Company Industrial Controls Design Bureau,” “Concern Radio-Electronic Technologies, Joint Stock Company Kazan Instrument Engineering and Design Bureau,” “Concern Radio-Electronic Technologies, Joint Stock Company Microtechnology,” “Concern Radio-Electronic Technologies, Joint Stock Company Phasotron Scientific Research Institute of Radio Engineering,” “Concern Radio-Electronic Technologies, Joint Stock Company Radiopribor,” “Concern Radio-Electronic Technologies, Joint Stock Company Ramensk Instrument Engineering Bureau,” “Concern Radio-Electronic Technologies, Joint Stock Company Research and Production Center SAPSAN,” “Concern Radio-Electronic Technologies, Joint Stock Company Rychag,” “Concern Radio-Electronic Technologies, Joint Stock Company Scientific Production Enterprise Izmeritel,” “Concern Radio-Electronic Technologies, Joint Stock Company Scientific Production Union for Radioelectronics named after V.I. Shimko,” “Concern Radio-Electronic Technologies, Joint Stock Company Taganrog Communications Scientific Research Institute,” “Concern Radio-Electronic Technologies, Joint Stock Company Urals Instrument Engineering Plant,” “Concern Radio-Electronic Technologies, Joint Stock Company Vzlet Engineering Testing Support,” “Concern Radio-Electronic Technologies, Joint Stock Company Zhiguli Radio Plant,” “Concern Radio-Electronic Technologies, Public Joint Stock Company Bryansk Special Design Bureau,” “Concern Radio-Electronic Technologies, Public Joint Stock Company Moscow Institute of Electro Mechanics and Automation,” “Concern Radio-Electronic Technologies, Public Joint Stock Company Stavropol Radio Plant Signal,” “Concern Radio-Electronic Technologies, Public Joint Stock Company Techpribor,” “Concern Radio-Electronic Technologies, Ramensky Instrument Engineering Plant,” “Concern Radio-Electronic Technologies, V.V. Tarasov Avia Avtomatika,” “Design Bureau of Chemical Machine Building KBKhM,” “Far Eastern Shipbuilding and Ship Repair Center,” “Ilyushin Aviation Complex Branch: Myasishcheva Experimental Mechanical Engineering Plant,” “Institute of Marine Technology Problems Far East Branch Russian Academy of Sciences,” “Irkutsk Aviation Plant,” “Joint Stock Company Aerocomposit,” “Joint Stock Company Avtomatika,” “Joint Stock Company Bryansk Electromechanical Plant,” “Joint Stock Company Eleron,” “Joint Stock Company Experimental Design Bureau named after A.S. Yakovlev,” “Joint Stock Company Federal Research and Production Center Altai,” “Joint Stock Company Head Special Design Bureau Prozhektor,” “Joint Stock Company Ilyushin Aviation Complex,” “Joint Stock Company Lazurit Central Design Bureau,” “Joint Stock Company Ramensky Instrument Engineering Plant,” “Joint Stock Company Research and Development Enterprise Protek,” “Joint Stock Company SPMDB Malachite,” “Joint Stock Company Votkinsky Zavod,” “Kalyazinsky Machine Building Factory—Branch of RSK MiG,” “Main Directorate of Deep-Sea Research,” “NPP Start,” “OAO Radiofizika,” “P.A. Voronin Lukhovitsk Aviation Plant, branch of RSK MiG,” “Public Joint Stock Company Voronezh Joint Stock Aircraft Company,” “Radio Technical Institute named after A. L. Mints,” “Russian Federal Nuclear Center—All Russian Research Institute of Experimental Physics,” “Shvabe JSC,” “Special Technological Center LLC,” “St. Petersburg Marine Bureau of Machine Building Malakhit,” “St. Petersburg Naval Design Bureau Almaz,” “St. Petersburg Shipbuilding Institution Krylov 45,” “Strategic Control Posts Corporation,” “TsKB MT Rubin,” “Vladimir Design Bureau for Radio Communications OJSC,” “V.A. Trapeznikov Institute of Control Sciences of Russian Academy of Sciences,” and “Voentelecom JSC”.

All of these 66 entities are designated with footnote 3. They are being added to the Entity List consistent with BIS's response to Russia's invasion of Ukraine, which includes restricting Russia's access to items subject to the EAR that allow it to project power and fulfill its strategic ambitions. These 65 Russian entities and one Belarusian entity are being added to the Entity List for acquiring and attempting to acquire U.S.-origin items in support of Russia's military. This activity is contrary to the national security and foreign policy interests of the United States under § 744.11 and these entities qualify as military end users under § 744.21 of the EAR. Their addition to the Entity List and footnote 3 designation means these entities are subject to a license requirement for the export, reexports, exports from abroad (as described under Russia/Belarus foreign “direct product” (FDP) rule, § 734.9(g)), or transfers (in-country) of all items subject to the EAR that are destined to these entities. No license exceptions are available for these entities; BIS will review all license applications for these entities under a policy of denial for all items subject to the EAR apart from food and medicine designated as EAR99, which will be reviewed on a case-by-case basis, per § 744.21(e)(1). This case-by-case review policy reflects a revision to § 744.21(e)(1) set forth in a separate rule, Export Administration Regulations: Revisions to Russia and Belarus Sanctions and Related Provisions; Other Revisions, Corrections, and Clarifications, that BIS is issuing and making effective simultaneously with this rule. Among other changes to the EAR, the “corrections” rule removes an exemption for food and medicine designated as EAR99 from the license requirement for all items subject to the EAR set forth in § 744.21(b)(1)(ii) and specifies a case-by-case license review policy for Russian and Belarusian `military end users' set forth in § 744.21(e)(1) with respect to food and medicine designated as EAR99. This case-by-case review policy applies to the 66 entities that are being added to the Entity List as part of this rule.

In addition, the ERC determined to add the following entities to the Entity List on the basis of § 744.11 under the destination of Russia: “A.A. Kharkevich Institute for Information Transmission Problems (IITP), Russian Academy of Sciences (RAS),” “Ak Bars Holding,” “Gazprom Neft Shelf,” “Special Research Bureau for Automation of Marine Researches Far East Branch Russian Academy of Sciences,” and “Systems of Biological Synthesis LLC.” These entities are being added to the Entity List consistent with BIS's response to Russia's invasion of Ukraine, which includes restricting Russia's access to items subject to the EAR that allow it to project power and fulfill its strategic ambitions. “A.A. Kharkevich Institute for Information Transmission Problems (IITP), Russian Academy of Sciences (RAS),” “Ak Bars Holding,” “Gazprom Neft Shelf,” “Special Research Bureau for Automation of Marine Researches Far East Branch Russian Academy of Sciences,” and “Systems of Biological Synthesis LLC,” are being added to the Entity List for acquiring and attempting to acquire U.S.-origin items in support of activities contrary to U.S. national security and foreign policy interests. These entities will be added to the Entity List with a license requirement for all items subject to the EAR. BIS will review license applications under a policy of denial, and no license exceptions are available for these entities being added.

For the reasons described above, this final rule adds the following 71 entities under 71 entries to the Entity List and includes, where appropriate, aliases:

Belarus

• Joint Stock Company Eleron.

Russia

• A.A. Kharkevich Institute for Information Transmission Problems (IITP), Russian Academy of Sciences (RAS),

• Ak Bars Holding,

• AO Rubin,

• Branch of AO Company Sukhoi Yuri Gagarin Komsomolsk on Amur Aircraft Plant,

• Branch of PAO Il—Aviastar,

• Branch of RSK MiG Nizhny Novgorod Aircraft Construction Plant Sokol,

• Chkalov Novosibirsk Aviation Plant,

• Concern Radio-Electronic Technologies, Joint Stock Company Aeropribor Voskhod,

• Concern Radio-Electronic Technologies, Joint Stock Company All Russian Scientific Research Institute Gradient,

• Concern Radio-Electronic Technologies, Joint Stock Company Almatyevsk Radiopribor Plant,

• Concern Radio-Electronic Technologies, Joint Stock Company Experimental Design Bureau Elektroavtomatika in the name of P.A. Efimov,

• Concern Radio-Electronic Technologies, Joint Stock Company Industrial Controls Design Bureau,

• Concern Radio-Electronic Technologies, Joint Stock Company Kazan Instrument Engineering and Design Bureau,

• Concern Radio-Electronic Technologies, Joint Stock Company Microtechnology,

• Concern Radio-Electronic Technologies, Joint Stock Company Phasotron Scientific Research Institute of Radio Engineering,

• Concern Radio-Electronic Technologies, Joint Stock Company Radiopribor,

• Concern Radio-Electronic Technologies, Joint Stock Company Ramensk Instrument Engineering Bureau,

• Concern Radio-Electronic Technologies, Joint Stock Company Research and Production Center SAPSAN,

• Concern Radio-Electronic Technologies, Joint Stock Company Rychag,

• Concern Radio-Electronic Technologies, Joint Stock Company Scientific Production Enterprise Izmeritel,

• Concern Radio-Electronic Technologies, Joint Stock Company Scientific Production Union for Radioelectronics named after V.I. Shimko,

• Concern Radio-Electronic Technologies, Joint Stock Company Taganrog Communications Scientific Research Institute,

• Concern Radio-Electronic Technologies, Joint Stock Company Urals Instrument Engineering Plant,

• Concern Radio-Electronic Technologies, Joint Stock Company Vzlet Engineering Testing Support,

• Concern Radio-Electronic Technologies, Joint Stock Company Zhiguli Radio Plant,

• Concern Radio-Electronic Technologies, Public Joint Stock Company Bryansk Special Design Bureau,

• Concern Radio-Electronic Technologies, Public Joint Stock Company Moscow Institute of Electro Mechanics and Automation,

• Concern Radio-Electronic Technologies, Public Joint Stock Company Stavropol Radio Plant Signal,

• Concern Radio-Electronic Technologies, Public Joint Stock Company Techpribor,

• Concern Radio-Electronic Technologies, Ramensky Instrument Engineering Plant,

• Concern Radio-Electronic Technologies, V.V. Tarasov Avia Avtomatika,

• Design Bureau of Chemical Machine Building KBKhM,

• Far Eastern Shipbuilding and Ship Repair Center,

• Gazprom Neft Shelf,

• Ilyushin Aviation Complex Branch: Myasishcheva Experimental Mechanical Engineering Plant,

• Institute of Marine Technology Problems Far East Branch Russian Academy of Sciences,

• Irkutsk Aviation Plant,

• Joint Stock Company Aerocomposit,

• Joint Stock Company Avtomatika,

• Joint Stock Company Bryansk Electromechanical Plant,

• Joint Stock Company Eleron,

• Joint Stock Company Experimental Design Bureau named after A.S. Yakovlev,

• Joint Stock Company Federal Research and Production Center Altai,

• Joint Stock Company Head Special Design Bureau Prozhektor,

• Joint Stock Company Ilyushin Aviation Complex,

• Joint Stock Company Lazurit Central Design Bureau,

• Joint Stock Company Ramensky Instrument Engineering Plant,

• Joint Stock Company Research and Development Enterprise Protek,

• Joint Stock Company SPMDB Malachite,

• Joint Stock Company Votkinsky Zavod,

• Kalyazinsky Machine Building Factory—Branch of RSK MiG,

• Main Directorate of Deep-Sea Research,

• NPP Start,

• OAO Radiofizika,

• P.A. Voronin Lukhovitsk Aviation Plant, branch of RSK MiG,

• Public Joint Stock Company Voronezh Joint Stock Aircraft Company,

• Radio Technical Institute named after A. L. Mints,

• Russian Federal Nuclear Center—All Russian Research Institute of Experimental Physics,

• Shvabe JSC,

• Special Research Bureau for Automation of Marine Researches Far East Branch Russian Academy of Sciences,

• Special Technological Center LLC,

• St. Petersburg Marine Bureau of Machine Building Malakhit,

• St. Petersburg Naval Design Bureau Almaz,

• St. Petersburg Shipbuilding Institution Krylov 45,

• Strategic Control Posts Corporation,

• Systems of Biological Synthesis LLC.,

• TsKB MT Rubin,

• Vladimir Design Bureau for Radio Communications OJSC,

• V.A. Trapeznikov Institute of Control Sciences of Russian Academy of Sciences, and

• Voentelecom JSC.

Savings Clause

For the changes being made in this final rule, shipments of items removed from eligibility for a License Exception or export, reexport, or transfer (in-country) without a license (NLR) as a result of this regulatory action that were en route aboard a carrier to a port of export, reexport, or transfer (in-country), on June 2, 2022, pursuant to actual orders for export, reexport, or transfer (in-country) to or within a foreign destination, may proceed to that destination under the previous eligibility for a License Exception or export, reexport, or transfer (in-country) without a license (NLR).

Export Control Reform Act of 2018

On August 13, 2018, the President signed into law the John S. McCain National Defense Authorization Act for Fiscal Year 2019, which included the Export Control Reform Act of 2018 (ECRA) (50 U.S.C. 4801-4852). ECRA provides the legal basis for BIS's principal authorities and serves as the authority under which BIS issues this rule.

Rulemaking Requirements

1. This rule has been determined to be not significant for purposes of Executive Order 12866.

2. Notwithstanding any other provision of law, no person is required to respond to or be subject to a penalty for failure to comply with a collection of information, subject to the requirements of the Paperwork Reduction Act of 1995 (44 U.S.C. 3501 et seq.) (PRA), unless that collection of information displays a currently valid Office of Management and Budget (OMB) Control Number. This regulation involves collections previously approved by OMB under control number 0694-0088, Simplified Network Application Processing System, which includes, among other things, license applications and commodity classifications, and carries a burden estimate of 29.6 minutes for a manual or electronic submission for a total burden estimate of 33,133 hours. Total burden hours associated with the PRA and OMB control number 0694-0088 are not expected to increase as a result of this rule.

3. This rule does not contain policies with federalism implications as that term is defined in Executive Order 13132.

4. Pursuant to section 1762 of the Export Control Reform Act of 2018, this action is exempt from the Administrative Procedure Act (5 U.S.C. 553) requirements for notice of proposed rulemaking, opportunity for public participation, and delay in effective date.

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required and none has been prepared.

List of Subjects in 15 CFR Part 744

Exports, Reporting and recordkeeping requirements, Terrorism.

Accordingly, part 744 of the Export Administration Regulations (15 CFR parts 730-774) is amended as follows:

PART 744—CONTROL POLICY: END-USER AND END-USE BASED

1. The authority citation for 15 CFR part 744 continues to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of September 15, 2021, 86 FR 52069 (September 17, 2021); Notice of November 10, 2021, 86 FR 62891 (November 12, 2021).

2. Amend Supplement No. 4 to part 744 by:

a. Under BELARUS adding, in alphabetical order, an entry for “Joint Stock Company Eleron”; and

b. Under RUSSIA adding, in alphabetical order, entries for “A.A. Kharkevich Institute for Information Transmission Problems (IITP), Russian Academy of Sciences (RAS),” “Ak Bars Holding,” “AO Rubin,” “Branch of AO Company Sukhoi Yuri Gagarin Komsomolsk on Amur Aircraft Plant,” “Branch of PAO Il—Aviastar,” “Branch of RSK MiG Nizhny Novgorod Aircraft Construction Plant Sokol,” “Chkalov Novosibirsk Aviation Plant,” “Concern Radio-Electronic Technologies, Joint Stock Company Aeropribor Voskhod,” “Concern Radio-Electronic Technologies, Joint Stock Company All Russian Scientific Research Institute Gradient,” “Concern Radio-Electronic Technologies, Joint Stock Company Almatyevsk Radiopribor Plant,” “Concern Radio-Electronic Technologies, Joint Stock Company Experimental Design Bureau Elektroavtomatika in the name of P.A. Efimov,” “Concern Radio-Electronic Technologies, Joint Stock Company Industrial Controls Design Bureau,” “Concern Radio-Electronic Technologies, Joint Stock Company Kazan Instrument Engineering and Design Bureau,” “Concern Radio-Electronic Technologies, Joint Stock Company Microtechnology,” “Concern Radio-Electronic Technologies, Joint Stock Company Phasotron Scientific Research Institute of Radio Engineering,” “Concern Radio-Electronic Technologies, Joint Stock Company Radiopribor,” “Concern Radio-Electronic Technologies, Joint Stock Company Ramensk Instrument Engineering Bureau,” “Concern Radio-Electronic Technologies, Joint Stock Company Research and Production Center SAPSAN,” “Concern Radio-Electronic Technologies, Joint Stock Company Rychag,” “Concern Radio-Electronic Technologies, Joint Stock Company Scientific Production Enterprise Izmeritel,” “Concern Radio-Electronic Technologies, Joint Stock Company Scientific Production Union for Radioelectronics named after V.I. Shimko,” “Concern Radio-Electronic Technologies, Joint Stock Company Taganrog Communications Scientific Research Institute,” “Concern Radio-Electronic Technologies, Joint Stock Company Urals Instrument Engineering Plant,” “Concern Radio-Electronic Technologies, Joint Stock Company Vzlet Engineering Testing Support,” “Concern Radio-Electronic Technologies, Joint Stock Company Zhiguli Radio Plant,” “Concern Radio-Electronic Technologies, Public Joint Stock Company Bryansk Special Design Bureau,” “Concern Radio-Electronic Technologies, Public Joint Stock Company Moscow Institute of Electro Mechanics and Automation,” “Concern Radio-Electronic Technologies, Public Joint Stock Company Stavropol Radio Plant Signal,” “Concern Radio-Electronic Technologies, Public Joint Stock Company Techpribor,” “Concern Radio-Electronic Technologies, Ramensky Instrument Engineering Plant,” “Concern Radio-Electronic Technologies, V.V. Tarasov Avia Avtomatika,” “Design Bureau of Chemical Machine Building KBKhM,” “Far Eastern Shipbuilding and Ship Repair Center,” “Gazprom Neft Shelf,” “Ilyushin Aviation Complex Branch: Myasishcheva Experimental Mechanical Engineering Plant,” “Institute of Marine Technology Problems Far East Branch Russian Academy of Sciences,” “Irkutsk Aviation Plant,” “Joint Stock Company Aerocomposit,” “Joint Stock Company Avtomatika,” “Joint Stock Company Bryansk Electromechanical Plant,” “Joint Stock Company Eleron,” “Joint Stock Company Experimental Design Bureau named after A.S. Yakovlev,” “Joint Stock Company Federal Research and Production Center Altai,” “Joint Stock Company Head Special Design Bureau Prozhektor,” “Joint Stock Company Ilyushin Aviation Complex,” “Joint Stock Company Lazurit Central Design Bureau,” “Joint Stock Company Ramensky Instrument Engineering Plant,” “Joint Stock Company Research and Development Enterprise Protek,” “Joint Stock Company SPMDB Malachite,” “Joint Stock Company Votkinsky Zavod,” “Kalyazinsky Machine Building Factory—Branch of RSK MiG,” “Main Directorate of Deep-Sea Research,” “NPP Start,” “OAO Radiofizika,” “P.A. Voronin Lukhovitsk Aviation Plant, branch of RSK MiG,” “Public Joint Stock Company Voronezh Joint Stock Aircraft Company,” “Radio Technical Institute named after A.L. Mints,” “Russian Federal Nuclear Center—All Russian Research Institute of Experimental Physics,” “Shvabe JSC,” “Special Research Bureau for Automation of Marine Researches Far East Branch Russian Academy of Sciences,” “Special Technological Center LLC,” “St. Petersburg Marine Bureau of Machine Building Malakhit,” “St. Petersburg Naval Design Bureau Almaz,” “St. Petersburg Shipbuilding Institution Krylov 45,” “Strategic Control Posts Corporation,” “Systems of Biological Synthesis LLC.,” “TsKB MT Rubin,” “V.A. Trapeznikov Institute of Control Sciences of Russian Academy of Sciences,” “Vladimir Design Bureau for Radio Communications OJSC,” “Voentelecom JSC”.

The additions read as follows:

Supplement No. 4 to Part 744—Entity List

* * * * *

Country | Entity | License requirement | License review policy | Federal Register citation
BELARUS | Joint Stock Company Eleron, a.k.a., the following two aliases: —JSC FCS&HT “SNPO “Eleron”; and —SNPO Eleron. 11 Kalinina Per., Minsk, 220012, Belarus. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
* * * * * * *
RUSSIA | * * * * * *
| A.A. Kharkevich Institute for Information Transmission Problems (IITP), Russian Academy of Sciences (RAS), a.k.a., the following two aliases: —Institute for Information Transmission Problems; and —Institut Problem Peredachi Informatsii RAN. | For all items subject to the EAR (See § 744.11 of the EAR). | Policy of Denial | 87 FR [INSERT FR PAGE NUMBER] 6/6/2022.
| 19 Bolshoi Karetny, building 1, Moscow, Russia, 127051.
| * * * * * *
| Ak Bars Holding, a.k.a., the following one alias: —Holding Company Ak Bars. 58a Korolenko St., Kazan, Republic of Tatarstan, Russia, 420094. | For all items subject to the EAR (See § 744.11 of the EAR). | Policy of Denial | 87 FR [INSERT FR PAGE NUMBER] 6/6/2022.
| * * * * * *
| AO Rubin, a.k.a., the following one alias: —Aktsionernoe Obshchestvo Rubin, Rubin ZAO. 8 11 Line of Vasilievsky Island, St. Petersburg, 199034, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| * * * * * *
| Branch of AO Company Sukhoi Yuri Gagarin Komsomolsk on Amur Aircraft Plant, a.k.a., the following two aliases: —KNAAZ; and —Aviation Holding Company AKhK24912 Sukhoi. 5 Skakovaya Street, Building 3, Moscow, 125040, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| Branch of PAO Il—Aviastar, a.k.a., the following one alias: —Aviastar-SP. 1 Prospect Antonova, Ulyanovsk, Ulanovsk Oblast, 432072, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| Branch of RSK MiG Nizhny Novgorod Aircraft Construction Plant Sokol, a.k.a., the following one alias: —NAZ Sokol. 1 Chaadaeva Street, Nizhny Novgorod, Nizhny Novgorod Oblast, 603035, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| * * * * * *
| Chkalov Novosibirsk Aviation Plant, a.k.a., the following two aliases: —NAZ; and —Aviation Holding Company AKhK Sukhoi. 15 Polzunova Street, Novosibirsk, Novosibirsk Oblast, 630051, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| * * * * * *
| Concern Radio-Electronic Technologies, Joint Stock Company Aeropribor Voskhod, a.k.a., the following one alias: —AP-Voskhod. 19 Tkatskaya Street, 4th Floor, Room 400, Moscow, 105318, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| Concern Radio-Electronic Technologies, Joint Stock Company All Russian Scientific Research Institute Gradient, a.k.a., the following one alias: —VNII Gradient. 96 Sokolov Prospect, Roston-on-Don, 344010, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| Concern Radio-Electronic Technologies, Joint Stock Company Almatyevsk Radiopribor Plant, a.k.a., the following two aliases: —JSC AZRP; and —Alzar. 2 Stroiteley Prspect, Almatyevsk, Almetyevsk, Region, Republic of Tatarstan, 423461, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| Concern Radio-Electronic Technologies, Joint Stock Company Experimental Design Bureau Elektroavtomatika in the name of P.A. Efimov, a.k.a., the following one alias: —AO OKB Elektroavtomatika. 40 Marshal Govorov, Saint Petersburg, 198095, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| Concern Radio-Electronic Technologies, Joint Stock Company Industrial Controls Design Bureau, a.k.a., the following two aliases: —KBPA; and —Design Bureau for Industrial Automatics. 239 Bolshaya Sadovaya Street, Saratov, Saratov Oblast, 410005, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| Concern Radio-Electronic Technologies, Joint Stock Company Kazan Instrument Engineering and Design Bureau, a.k.a., the following one alias: —KPKB. Sibirsky Trakt Street, Kazan, Republic of Tartarstan, 420061, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| Concern Radio-Electronic Technologies, Joint Stock Company Microtechnology, a.k.a., the following one alias: —JSC Microtechnology. 44 Pioneer Street, Saint Petersburg, 197110, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| Concern Radio-Electronic Technologies, Joint Stock Company Phasotron Scientific Research Institute of Radio Engineering, a.k.a., the following one alias: —Phasotron NIIR. 59 Kavkazky Boulevard, Floor 3, Space XIV, Room 21, Moscow, 115516, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| Concern Radio-Electronic Technologies, Joint Stock Company Radiopribor, a.k.a., the following one alias: —Radiopribor. 2 Fatkulina Street, Kazan, Republic of Tartarstan, 420021. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| Concern Radio-Electronic Technologies, Joint Stock Company Ramensk Instrument Engineering Bureau, a.k.a., the following one alias: —RPKB. 2 Guriev Street, Ramensk, Moscow Oblast, 140103, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| Concern Radio-Electronic Technologies, Joint Stock Company Research and Production Center SAPSAN, a.k.a., the following one alias: —NPTs SAPSAN. 25 Avtozavodskaya Street, Room 2, Moscow, 115280, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| Concern Radio-Electronic Technologies, Joint Stock Company Rychag, a.k.a., the following one alias: —Rychag. 37 Lipatova Street, Kazan, Republic of Tatarstan, 420075, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| Concern Radio-Electronic Technologies, Joint Stock Company Scientific Production Enterprise Izmeritel, a.k.a., the following one alias: —NPP Izmeritel. 5 Babushkina Street, Smolensk, Smolensk Oblast, 214031, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| Concern Radio-Electronic Technologies, Joint Stock Company Scientific Production Union for Radioelectronics named after V.I. Shimko, a.k.a., the following one alias: —NPO Radioelectronics N.A. V.I. Shimko. 50 Journalists Street, Republic of Tartarstan, 420029, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| Concern Radio-Electronic Technologies, Joint Stock Company Taganrog Communications Scientific Research Institute, a.k.a., the following one alias: —TNIIS. 3 Sedova Street, Taganrog, Rostov Oblast, 347913, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| Concern Radio-Electronic Technologies, Joint Stock Company Urals Instrument Engineering Plant, a.k.a., the following one alias: —JSC UPZ. 25 Km Tract Street, Chelyabinsk, Svertsky, Sverdlovsk Oblast, 624000, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| Concern Radio-Electronic Technologies, Joint Stock Company Vzlet Engineering Testing Support, a.k.a., the following one alias: —ISI Vzlet. ISI Vzlet Room, Aktyubinsk-7, Aktyubinsk Region, Astrakhan Oblast, 476507, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| Concern Radio-Electronic Technologies, Joint Stock Company Zhiguli Radio Plant, a.k.a., the following one alias: —ZhRZ. 1 Radiozavod Street, Zhigulevsk, Samara Oblast, 44539, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| Concern Radio-Electronic Technologies, Public Joint Stock Company Bryansk Special Design Bureau, a.k.a., the following one alias: —BEMZ 136 Vokzalnaya Street, Bryansk, 241017, Russia | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| Concern Radio-Electronic Technologies, Public Joint Stock Company Moscow Institute of Electro Mechanics and Automation, a.k.a., the following one alias: —PAO MIEA. 5 Aviation Pereulok, Moscow, 125167, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| Concern Radio-Electronic Technologies, Public Joint Stock Company Stavropol Radio Plant Signal, a.k.a., the following one alias: —Signal Radio Plant. 9A 2nd Yugo-Zapadny Proezd, Stavropol, Stavropol Krai, 355037. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| Concern Radio-Electronic Technologies, Public Joint Stock Company Techpribor, a.k.a., the following one alias: —Techpribor. 5A Varshavskaya Street, Saint Petersburg, 196128, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| Concern Radio-Electronic Technologies, Ramensky Instrument Engineering Plant, a.k.a., the following one alias: —Ramensky Instrument-Engineering Plant. 39 Mikhalevicha Street, Room 20, Floor 2, Space 124, Ramensk, Moscow Oblast, 140100, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| Concern Radio-Electronic Technologies, V.V. Tarasov Avia Avtomatika, a.k.a., the following two aliases: —Kursk Open Joint Stock Company Kursk Pribor; and —Kursk Pribor. 47 Zapolnaya Street, Kursk, 305040, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| * * * * * *
| Design Bureau of Chemical Machine Building KBKhM, a.k.a., the following two aliases: —A.M. Isayev Chemical Engineering Design Bureau; and —KB KhimMash. 12 Bogomolova St., Podlipki, Korolyev, Moscow oblast, 141070, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| * * * * * *
| Far Eastern Shipbuilding and Ship Repair Center, a.k.a., the following one alias: —DTSSS, AO. 72 Svetlanskaya Street, Vladivostok, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| * * * * * *
| Gazprom Neft Shelf, the following one alias: —Sevmorneftegaz. 8 Lesteva Street, Moscow, 115162, Russia; and 31 I.M. V.I. Lenina Street, Naryan-Mar, Nenetski Autonomous District 166000, Russia; and 19 Karla Marksa, Murmansk, Murmanskaya Oblast, 183025, Russia; and 38/4 Prospect Nevski, Saint Petersburg, 191036, Russia. | For all items subject to the EAR (See § 744.11 of the EAR). | Policy of Denial | 87 FR [INSERT FR PAGE NUMBER] 6/6/2022.
| * * * * * *
| Ilyushin Aviation Complex Branch: Myasishcheva Experimental Mechanical Engineering Plant, a.k.a., the following one alias: —Myasishcheva EMZ. 7 Narkomvod Street, Zhukovsky, Moscow Oblast, 140180, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| * * * * * *
| Institute of Marine Technology Problems Far East Branch Russian Academy of Sciences, a.k.a., the following one alias: —IPMT FEB RAS. 5A Sukhanov Street, Vladivostok, 690091, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| * * * * * *
| Irkutsk Aviation Plant, 3 Novatorov Street, Irkutsk, 664020, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| * * * * * *
| Joint Stock Company Aerocomposit, a.k.a., the following one alias: —Aerocomposit. 47 Leningrad Prospect, Building 2, Moscow, 125167, Russia; and 23B Polikarpova Street, Room 2, Moscow, 125284, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| * * * * * *
| Joint Stock Company Avtomatika, a.k.a., the following one alias: —Avtomatika. 113G Svetlanskaya Street, Vladivostok, Primorsk Krai, 690001, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| Joint Stock Company Bryansk Electromechanical Plant, a.k.a., the following one alias: —BEMZ. 136 Vokzalnaya Street, Bryansk, 241017, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| Joint Stock Company Eleron, a.k.a., the following two aliases: —JSC FCS&HT SNPO Eleron and —SNPO Eleron. 55 Dibunovskaya St., St. Petersburg, 197183, Russia; and 14 Generala Belova St., Moscow, 115563, Russia; and 11 Oktyabrskava St., Ozersk, Chelyabinsk Region, 456780, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| Joint Stock Company Experimental Design Bureau named after A.S. Yakovlev, a.k.a., the following one alias: —A.S. Yakovlev EDB. 68 Leningrad Prospect, Moscow, 12531568, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| Joint Stock Company Federal Research and Production Center Altai, 1 Socialist Street, Biysk, Altai Territory, 659322, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| Joint Stock Company Head Special Design Bureau Prozhektor, 56 Highway Enthusiasts, Moscow, 111123, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| Joint Stock Company Ilyushin Aviation Complex, a.k.a., the following one alias: —PAO Ilyushin. 45G Leningrad Prospect, Moscow, 125190, Russia; and 2 Tupolev Street, Zhukovsky, Moscow Oblast, 140185, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| Joint Stock Company Lazurit Central Design Bureau, a.k.a., the following one alias: —Aktsionernoe Obshchestvo Tsentralnoe Konstruktorskoe Byuro Lazurit. 57 Svoboda Street, Nizhny Novgorod, 603951, Russia; and 25H, 29H, Building 6/2, Lit. A, Ligovsky Prospect, Saint Petersburg, 191036, Russia; and 72 Svetlanskaya Street, Vladivostok, Primorsky Territory, 690091, Russia; and 1 Lebedva Street, Bolshoy Kamen, Primorsky Territory, 692801, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| Joint Stock Company Ramensky Instrument Engineering Plant, a.k.a., the following one alias: —Ramensky Instrument-Engineering Plant. 39 Mikhalevicha Street, Room 20, Floor 2, Space 124, Ramensk, Moscow Oblast, 140100, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| Joint Stock Company Research and Development Enterprise Protek, a.k.a., the following one alias: —JSC NVP Protek. 6 Basic St., Voronezh, 394028, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| Joint Stock Company SPMDB Malachite, a.k.a., the following one alias: —Sankt-Peterburgskoe Morskoe Byuro Mashinostroeniya Malakhit, PAO. 18 Frunze Street, Saint Petersburg, 196135, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| Joint Stock Company Votkinsky Zavod, 2 Kirova Street, Votkinsk, Udmurt Republic, 427430, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| * * * * * *
| Kalyazinsky Machine Building Factory—Branch of RSK MiG, 5 Industrialnaya Ultisa, Kalyazin, Tver Oblast, 171573, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| * * * * * *
| Main Directorate of Deep-Sea Research, a.k.a., the following three aliases: —GUGI; —Hydrographic Service of the Navy; and —Department of Navigation and Oceanography of the Ministry of Defense of the Russian Federation. 8, 11 line of Vasilievsky Island, St. Petersburg, 199034 Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| * * * * * *
| NPP Start, a.k.a., the following one alias: —NPP Start AE Yaskina. 24 Pribaltiskaya St., Yekaterinburg, 620007, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| * * * * * *
| OAO Radiofizika, a.k.a., the following one alias: —PJSC Radiophysics. 10 Geroyev Panfilov St., Moscow, 125363, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| * * * * * *
| P.A. Voronin Lukhovitsk Aviation Plant, branch of RSK MiG, a.k.a., the following one alias: —LAZ. Lukhovitsy District, Moscow Region, 140500, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| * * * * * *
| Public Joint Stock Company Voronezh Joint Stock Aircraft Company, a.k.a., the following one alias: —VASO. 27 Tsiolkovsk Street, Vornezh, 394029, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| * * * * * *
| Radio Technical Institute named after A. L. Mints, a.k.a., the following two aliases: —Academician A.L. Mints Radiotechnical Institute; and —Mints Radio-Technical Institute. 10/1 8th March St., North Administrative Okrug, Moscow, 127083, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| * * * * * *
| Russian Federal Nuclear Center—All-Russian Research Institute of Experimental Physics, a.k.a., the following four aliases: —NIIIS; —Sedakova Research Institute of Measuring Systems; —NIIIS Named After Yu.E. Sedakov; and —RFNC-VNIIEF. Box No. 486, Nizhny Novgorod, Russia, 603951; and 47 Tropinina St., Nizhny Novgorod, 603137, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| * * * * * *
| Shvabe JSC, a.k.a., the following one alias: —Shvabe. 176 Mira Prospekt, Moscow, 129366, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| * * * * * *
| Special Research Bureau for Automation of Marine Researches Far East Branch Russian Academy of Sciences, a.k.a., the following one alias: —SKB SAMI DVO RAN. 25 Alekseya Maksimovicha Gorkogo, Yuzhno-Sakhalinsk, Kakhalinskaya Oblast, 693010, Russia. | For all items subject to the EAR (See § 744.11 of the EAR). | Policy of Denial | 87 FR [INSERT FR PAGE NUMBER] 6/6/2022.
| Special Technological Center LLC, a.k.a., the following one alias: —OOO STTs. 21B Gzhatskaya St., St. Petersburg, 195220, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| * * * * * *
| St. Petersburg Marine Bureau of Machine Building Malakhit, a.k.a., the following two aliases: —SPMBM Malakhit; and —Malakhit. 18 Frunze St., St. Petersburg, 196135, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| St. Petersburg Naval Design Bureau Almaz, a.k.a., the following two aliases: —JSC TsMKB Almaz; and —Almaz Central Marine Design Bureau. 50 Varshavskaya, St. Petersburg, 196128, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| St. Petersburg Shipbuilding Institution Krylov 45, a.k.a., the following one alias: —Krylov State Research Center. 44 Moskovskoe Highway, St. Petersburg, Russia, 196158. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| * * * * * *
| Strategic Control Posts Corporation, a.k.a., the following two aliases: —Central Design Bureau of Heavy Machine Building SPU TsKB TM; and —JSC Corporation SPU-CCB TM. 12A Vozvodnaya St., Moscow, 111024, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| * * * * * *
| Systems of Biological Synthesis LLC., a.k.a., the following three aliases: —Sistemy Biologicheskogo Sinteza; —OOO SBS; and —SBS LLC. Akademika Koroleva Street, Building 13/1, Office 35-39, Moscow, 129515, Russia. | For all items subject to the EAR (See § 744.11 of the EAR). | Policy of Denial | 87 FR [INSERT FR PAGE NUMBER] 6/6/2022.
| TsKB MT Rubin, a.k.a., the following two aliases: —Tsentralnoe Konstruktorskoe Byuro Morskoi Tekhniki Rubin; and —The Rubin Central Design Bureau for Marine Engineering. 90 Marata Street, Saint Petersburg, 191119, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| * * * * * *
| V.A. Trapeznikov Institute of Control Sciences of Russian Academy of Sciences, a.k.a., the following two aliases: —ICS RAS; and —IPU RAS. 65 Profsoyuznaya Street, Business Center Vozdvizhenka Center Voentorg, Moscow, 117997, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| Vladimir Design Bureau for Radio Communications OJSC, a.k.a., the following one alias: —VKBR. 28 Baturina St., Vladimir, Vladimirskaya oblast, 600017, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| Voentelecom JSC, 15A/1 Bolshaya Olenya St., Moscow, 107014, Russia. | For all items subject to the EAR. (See §§ 734.9(g),³ 746.8(a)(3), and 744.21(b) of the EAR.) | Policy of denial for all items subject to the EAR apart from food and medicine designated as EAR99, which will be reviewed on a case-by-case basis. See §§ 746.8(b) and 744.21(e) | 87 FR [INSERT FR PAGE NUMBER] 6/6/2022.
| * * * * * *

* * * * *

Thea D. Rozman Kendler,
Assistant Secretary for Export Administration.

[FR Doc. 2022-12144 Filed 6-2-22; 4:15 pm]

BILLING CODE 3510-JT-P